DEPARTMENT OF ENERGY

Federal Energy Regulatory Commission

[Docket Nos. CP04-36-000 and CP04-41-000]

Weaver's Cove Energy, L.L.C.; Mill River Pipeline, L.L.C.; Notice of Availability of the Draft Environmental Impact Statement and the Draft General Conformity Determination for the Proposed Weaver's Cove LNG Project

July 30, 2004.

The staff of the Federal Energy Regulatory Commission (FERC or Commission) has prepared a draft Environmental Impact Statement (EIS) on the liquefied natural gas (LNG) import terminal and natural gas pipeline facilities in Bristol County, Massachusetts proposed by Weaver's Cove Energy, L.L.C. and Mill River Pipeline, L.L.C. (collectively referred to as Weaver's Cove Energy) in the above-referenced dockets. A draft General Conformity Determination was also prepared to assess the potential air quality impacts associated with construction and operation of the proposed project and is included as appendix H of the draft EIS.

The draft EIS was prepared to satisfy the requirements of the National Environmental Policy Act (NEPA). The staff concludes that approval of the proposed project with appropriate mitigating measures as recommended, would have limited adverse environmental impact. The draft EIS also evaluates alternatives to the proposal, including system alternatives, alternative sites for the LNG import terminal, and pipeline alternatives; and requests comments on them.

The draft EIS was also prepared to satisfy the requirements of the Massachusetts Environmental Policy Act (MEPA). The Massachusetts Executive Office of Environmental Affairs issued a Certificate to Weaver's Cove Energy on August 28, 2003, that established a Special Review Procedure to guide the MEPA review of the Weaver's Cove LNG Project. This Special Review Procedure provides for a coordinated NEPA/MEPA review and allows the draft and final EISs to serve as the draft and final Environmental Impact Reports (EIRs) required under MEPA, provided the EISs address MEPA's EIR requirements, as specified in the MEPA scope for the project that was issued concurrently with the August 28, 2003, Special Review Procedure.

Weaver's Cove Energy's proposed facilities would transport up to 800 million cubic feet per day (MMcfd) of imported natural gas to the U.S. market. In order to provide LNG import, storage, and pipeline transportation services, Weaver's Cove Energy requests Commission authorization to construct, install, and operate an LNG terminal and natural gas pipeline facilities.

The draft EIS addresses the potential environmental effects of the construction and operation of the following LNG terminal and natural gas pipeline facilities:

• A ship unloading facility with a single berth capable of receiving LNG ships with cargo capacities of up to 145,000 cubic meters (m³);

• A 200,000 m³ (equivalent to 4.4 billion standard cubic feet of gas) full containment LNG storage tank;

• Vaporization equipment, sized for a normal sendout of 400 MMcfd and a maximum sendout of 800 MMcfd;

• Four LNG truck loading stations;

• Ancillary utilities, buildings, and service facilities;

• Two 24-inch-diameter natural gas sendout pipelines, totaling approximately 6.1 miles in length; and

• Two meter and regulation stations.

Comment Procedures and Public Meetings

Any person wishing to comment on the draft EIS or the draft General Conformity Determination may do so. To ensure consideration prior to a Commission decision on the proposal, it is important that we receive your comments before the date specified below. Please carefully follow these instructions to ensure that your comments are received in time and properly recorded:

• Send an original and two copies of your comments to: Magalie R. Salas, Secretary, Federal Energy Regulatory Commission, 888 First St., NE., Room 1A, Washington, DC 20426;

• Reference Docket No. CP04-36-000;

• Label one copy of your comments for the attention of Gas Branch 1, PJ11.1; and

• Mail your comments so that they will be received in Washington, DC on or before September 20, 2004.

Please note that we are continuing to experience delays in mail deliveries from the U.S. Postal Service. As a result, we will include all comments that we receive within a reasonable time frame in our environmental analysis of the project. However, the Commission strongly encourages electronic filing of any comments or interventions to this proceeding. See 18 CFR 385.2001(a)(1)(iii) and the instructions on the Commission's Web site at http://www.ferc.gov under the “e-Filing” link and the link to the User's Guide. Before you can file comments you will need to create a free account which can be created online.

In addition to or in lieu of sending written comments, we invite you to attend the public comment meetings we will conduct in the project area. The locations and times for these meetings are listed below:

September 8, 2004, 7 p.m. (e.s.t.), Venus de Milo Restaurant, 75 GAR Highway, Swansea, Massachusetts 02777, (508) 678-3901.

September 9, 2004, 7 p.m. (e.s.t.), Gaudet Middle School, 1113 Aquidneck Avenue, Middletown, RI 02842, (401) 846-6395

These meetings will be posted on the Commission's calendar located at http://www.ferc.gov/EventCalendar/EventsList.aspx along with other related information. Interested groups and individuals are encouraged to attend and present oral comments on the draft EIS. Transcripts of the meetings will be prepared.

After these comments are reviewed, any significant new issues are investigated, and modifications are made to the draft EIS and draft General Conformity Determination, a final EIS, including a final General Conformity Determination, will be published and distributed by the staff. The final EIS will contain the staff's responses to timely comments received on the draft EIS and draft General Conformity Determination.

Comments will be considered by the Commission but will not serve to make the commentor a party to the proceeding. Any person seeking to become a party to the proceeding must file a motion to intervene pursuant to Rule 214 of the Commission's Rules of Practice and Procedures (18 CFR 385.214).

Anyone may intervene in this proceeding based on this draft EIS. You must file your request to intervene as specified above.¹ You do not need intervenor status to have your comments considered.

¹ Interventions may also be filed electronically via the Internet in lieu of paper. See the previous discussion on filing comments electronically.

The draft EIS has been placed in the public files of the FERC and is available for distribution and public inspection at: Federal Energy Regulatory Commission, Public Reference Room, 888 First Street, NE., Room 2A, Washington, DC 20426, (202) 502-8371.

A limited number of copies are available from the Public Reference Room identified above. In addition, copies of the draft EIS have been mailed to Federal, State, and local agencies; public interest groups; individuals and affected landowners who requested a copy of the draft EIS; libraries; newspapers; and parties to this proceeding.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Magalie R. Salas,
Secretary.

[FR Doc. E4-1734 Filed 8-5-04; 8:45 am]

BILLING CODE 6717-01-P